EXPORT-IMPORT BANK

Intent to Conduct a Detailed Economic Impact Analysis

Pursuant to Section 2(e)(7)(B) of the Ex-Im Charter, this notice is to inform the public that the Export-Import Bank of the United States has received an application for a $100 million guarantee to support the export of up to $117.6 million in U.S. equipment and services for fertilizer production in Morocco.

The U.S. exports will support the Moroccan producer's long-term modernization plans. Parts of those efforts include an expansion of production capacity at four diammonium phosphate (DAP) fertilizer processing plants by a total of 4 million metric tons of DAP per year. The new foreign production will be sold globally.

Interested parties may submit comments on this transaction by email to economic.impact@exim.gov or by mail to 811 Vermont Avenue, Washington, DC 20571, attention Policy and Planning Division, within 14 days of the date this notice appears in the Federal Register.

Helene Walsh,
Vice President, Policy and Planning.

[FR Doc. 2014-13806 Filed 6-11-14; 8:45 am]

BILLING CODE 6690-01-P